DEPARTMENT OF THE TREASURY

Internal Revenue Service

Advisory Group to the Internal Revenue Service; Tax Exempt and Government Entities Division (TE/GE); Meeting

AGENCY: Internal Revenue Service (IRS), Treasury.

ACTION: Notice.

SUMMARY: The Advisory Committee on Tax Exempt and Government Entities (ACT) will hold a public meeting on Wednesday, June 11, 2008.

FOR FURTHER INFORMATION CONTACT: Steven J. Pyrek, Director, TE/GE Communications and Liaison; 1111 Constitution Ave., NW., SE:T:CL—Penn Bldg.; Washington, DC 20224. Telephone: 202-283-9966 (not a toll-free number). E-mail address: Steve.J.Pyrek@irs.gov.

SUPPLEMENTARY INFORMATION: By notice herein given, pursuant to section 10(a)(2) of the Federal Advisory Committee Act, 5 U.S.C. App. (1988), a public meeting of the ACT will be held on Wednesday, June 11, 2008, from 11 a.m. to 2 p.m., at the Internal Revenue Service, 1111 Constitution Ave., NW., Room 3313, Washington, DC. Issues to be discussed relate to Employee Plans, Exempt Organizations, and Government Entities.

Reports From Six ACT Subgroups Cover the Following Topics

• Employee Plans: Improving the Employee Plans Compliance Resolution System.

• Exempt Organizations: The Appropriate Role of the IRS With Respect to Tax-Exempt Organization Good Governance Issues.

• Tax-Exempt Bonds: The Streamlined Closing Agreement for Tax-Exempt Bonds.

• Employee Plans/Federal, State and Local Governments: Protecting Plan Benefits: Improving Governmental Defined Contribution Plan Compliance.

• Federal, State and Local Governments: Tax Treatment of Cellular Telephones and Internet-Provider Allowances.

• Indian Tribal Governments: Governmental Relationship and Communication Between the IRS and Indian Tribal Governments.

Last minute agenda changes may preclude advance notice. Due to limited seating and security requirements, attendees must call Cynthia PhillipsGrady to confirm their attendance.

Ms. PhillipsGrady can be reached at (202) 283-9954. Attendees are encouraged to arrive at least 30 minutes before the meeting begins to allow sufficient time for security clearance. Picture identification must be presented. Please use the main entrance at 1111 Constitution Ave., NW., to enter the building.

Should you wish the ACT to consider a written statement, please call (202) 283-9966, or write to: Internal Revenue Service, 1111 Constitution Ave., NW., SE:T:CL-Penn Bldg.; Washington, DC 20224, or e-mail Steve.J.Pyrek@irs.gov.

Dated: May 20, 2008.
Steven J. Pyrek,
Designated Federal Official, Tax Exempt and Government Entities Division.

[FR Doc. E8-11797 Filed 5-23-08; 8:45 am]

BILLING CODE 4830-01-P